FEDERAL ELECTION COMMISSION

11 CFR Part 108

[Notice 2000-12]

Filing Copies of Campaign Finance Reports and Statements With State Officers

AGENCY: Federal Election Commission.

ACTION: Final rule; announcement of effective date.

SUMMARY: On March 22, 2000 at 65 FR 15221, the Commission published the text of revised regulations governing filing of campaign finance reports with State officers and the duties of State officers concerning the reports. The Commission announces that these rules are effective as of June 7, 2000.

EFFECTIVE DATE: The amendment to 11 CFR 108.1, 108.2, 108.3, 108.4, and 108.6 as publiched at 65 FR 15221 (March 22, 2000), are effective as of June 7, 2000.

FOR FURTHER INFORMATION CONTACT: Ms. Rosemary C. Smith, Assistant General Counsel, or Ms. Rita A. Reimer, Attorney, 999 E Street, NW., Washington, DC 20463, (202) 694-1650 or toll free (800) 424-9530.

SUPPLEMENTARY INFORMATION: The Commission is announcing the effective date of revised regulations at 11 CFR Part 108, governing filing copies of campaign finance reports and statements with State officers. These rules implement a 1995 amendment to the Federal Election Campaign Act at 2 U.S.C. 439(c) that exempts States meeting certain criteria from receipt and maintenance requirements for reports filed in connection with federal elections.

The statutory amendment specifically covers reports and statements filed with the Commission, i.e., all except those filed by Senate candidates, their authorized committees, and committees that support or oppose them, which are filed with the Secretary of the Senate. The new rules also exempt from State receipt and maintenance requirements reports filed with the Secretary of the Senate that can be accessed electronically from the Commission's Web site, www.fec.gov.

Section 438(d) of Title 2, United States Code, requires that any rules or regulations prescribed by the Commission to carry out the provisions of Title 2 of the United States Code be transmitted to the Speaker of the House of Representatives and the President of the Senate thirty legislative days prior to final promulgation. These rules were transmitted to Congress on March 17, 2000. Thirty legislative days expired in the Senate on May 16, 2000, and the House of Representatives on May 23, 2000.

Darryl R. Wold,
Chairman, Federal Election Commission.

[FR Doc. 00-14241 Filed 6-6-00; 8:45 am]

BILLING CODE 6715-01-P